DEPARTMENT OF STATE

[Public Notice: 7398]

Shipping Coordinating Committee; Notice of Committee Meeting

The Shipping Coordinating Committee (SHC) will conduct two open meetings to prepare for upcoming events at the International Maritime Organization (IMO) in London, United Kingdom. The first of these meetings will be held at 9:30 a.m. on Wednesday, May 4, 2011, in Room 2501 of the United States Coast Guard Headquarters Building, 2100 Second Street, SW., Washington, DC 20593-0001. The primary purpose of the meeting is to prepare for the eighty ninth Session of the International Maritime Organization's (IMO) Maritime Safety Committee (MSC 89) to be held May 11-20, 2011.

The primary matters to be considered at MSC 89 include:

—Adoption of the agenda; report on credentials

—Decisions of other IMO bodies

—Consideration and adoption of amendments to mandatory instruments

—Measures to enhance maritime security

—Goal-based new ship construction standards

—LRIT-related matters

—Dangerous goods, solid cargoes and containers

—Ship design and equipment

—Stability and load lines and fishing vessels safety

—Training and watchkeeping

—Bulk liquids and gases

—Flag State implementation

—Radiocommunications and search and rescue

—Technical assistance sub-programme in maritime safety and security

—Capacity-building for the implementation of new measures

—Formal safety assessment

—General cargo ship safety

—Piracy and armed robbery against ships

—Implementation of instruments and related matters

—Relations with other organizations

—Application of the Committee's Guidelines

—Work programme

—Election of Chairman and Vice-Chairman for 2012

—Any other business

—Consideration of the report of the Committee on its eighty-ninth session

The second open meeting of the SHC will be held at 9:30 a.m. on Tuesday May 24th, 2011, in Room 51309 of the United States Coast Guard Headquarters Building, 2100 Second Street, SW., Washington, DC 20593-0001. The primary purpose of the meeting is to prepare for the fifty-seventh Session of the International Maritime Organization's (IMO) Subcommittee on Safety of Navigation (NAV 57) to be held June 6—10, 2011.

The primary matters to be considered at NAV 57 include:

—Adoption of the Agenda

—Decisions of other IMO bodies

—Routeing of ships, ship reporting and related matters

—Amendments to the Performance standards for Voyage Data Recorders (VDR) and Simplified VDR (S-VDR)

—International Telecommunication Union (ITU) matters, including Radiocommunication ITU-R Study Group matters

—Development of an e-navigation strategy implementation plan

—Review of vague expressions in International Convention for the Safety of Life at Sea (SOLAS) regulation V/22

—Development of policy and new symbols for Automatic Identification System (AIS) aids to navigation

—Casualty analysis

—Consideration of International Association of Classification Societies (IACS) unified interpretations

—Development of performance standards for inclinometers

—Biennial agenda and provisional agenda for NAV 58

—Election of Chairman and Vice-Chairman for 2012

—Any other business

—Report of the Maritime Safety Committee

Members of the public may attend these two meetings up to the seating capacity of the rooms. To facilitate the building security process, and to request reasonable accommodation, those who plan to attend one or both of these meetings should contact the following coordinators at least 7 days prior to the meetings:

—For the MSC 89 meeting on May 4, contact LCDR Jason Smith, by e-mail at jason.e.smith2@uscg.mil, by phone at (202) 372-1376, by fax at (202) 372-1925, or in writing at Commandant (CG-52), U.S. Coast Guard, 2100 2nd Street, SW., Stop 7126, Washington, DC 20593-7126 not later than April 27, 2011. Requests made after April 27, 2011 might not be able to be accommodated.

—For the NAV 57 meeting on May 24, Mr. Edward J. LaRue Jr., by e-mail at Edward.J.LaRue@uscg.mil, by phone at (202) 372-1564, by fax at (202) 372-1991, or in writing at Commandant (CG-5533), U.S. Coast Guard, 2100 2nd Street, SW, Stop 7683, Washington, DC 20593-7683 not later than May 17, 2011. Requests made after May 17 might not be able to be accommodated.

Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: April 1, 2011.
Jon Trent Warner,
Executive Secretary, Shipping Coordinating Committee, Department of State.

[FR Doc. 2011-8171 Filed 4-5-11; 8:45 am]

BILLING CODE 4710-09-P